DEPARTMENT OF COMMERCE

National Oceanic and Atmospheric Administration

Proposed Information Collection; Comment Request; Developing Social Wellbeing Indicators for Marine Management

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 8, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Karma Norman, (206) 302-2418 or karma.norman@noaa.gov.

SUPPLEMENTARY INFORMATION:

I. Abstract

This request is for a new information collection.

In order to address Executive Order 13547 requirements to promote human wellbeing through implementation of ecosystem-based management (EBM), NOAA Fisheries social scientists must collect a broad range of social, cultural, and economic information that is currently unavailable. This research is designed to improve social science data related to the human dimensions of ecosystem-based management and marine spatial planning related to marine and coastal management needs by: (1) Investigating how marine and coastal conditions and management affect human wellbeing; (2) developing and testing theories and methods for defining and measuring human wellbeing within an EBM model; and (3) identifying indicators of wellbeing for use in such a model. This study will focus on marine- and coast-related communities of the US West Coast in order to inform the California Current Integrated Ecosystem Assessment (IEA) “Resilient and Economically Viable Coastal Communities” section. It will assist managers with evaluating how different management strategies may affect the wellbeing of marine-dependent and coastal communities beyond commercial harvests and economic conditions, such as in terms of health, cultural values, and social cohesion. Combined with a literature review, interviews and focus groups will assist with identifying salient stakeholder groups and locally meaningful indicators in the study area. A survey will enable researchers to test the validity of the resulting selected suite of indicators with broader samples of each stakeholder group.

II. Method of Collection

Interview and focus group responses will be collected through audio-recordings, handwritten and typed notes, and simple questionnaires. Survey responses will be collected through paper and/or electronic forms.

III. Data

OMB Control Number: None.

Form Number: None.

Type of Review: Regular submission (request for a new information collection).

Affected Public: Business or other for-profit organizations; not-for-profit institutions; federal government; state, local, or tribal government; individuals or households; farms.

Estimated Number of Respondents: 1,000.

Estimated Time per Response: Interviews, 1 hour; focus groups, 2 hours; surveys, 30 minutes.

Estimated Total Annual Burden Hours: 1,000.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 6, 2013.
Gwellnar Banks,
Management Analyst, Office of the Chief Information Officer.

[FR Doc. 2013-11011 Filed 5-8-13; 8:45 am]

BILLING CODE 3510-22-P